DEPARTMENT OF TRANSPORTATION

Coast Guard

46 CFR Part 10

[USCG-2002-13213]

RIN 2115-AG43

Great Lakes Maritime Academy—Eligibility of Certain Graduates for Unrestricted Third-Mate Licenses

AGENCY: Coast Guard, DOT.

ACTION: Direct final rule; request for comments.

SUMMARY: The Coast Guard is amending minimum service or training requirements for ocean or near coastal steam or motor vessel third mate licenses. Graduation from the Great Lakes Maritime Academy (GLMA) deck curriculum ocean option will qualify an applicant for licensing on both ocean and near coastal vessels. GLMA graduates who do not complete the ocean option or one of the other approved service or training routes will continue to be eligible for licensing only on near coastal vessels.

DATES: This rule is effective January 16, 2003, unless an adverse comment or notice of intent to submit an adverse comment reaches the Docket Management Facility on or before December 17, 2002. If an adverse comment or notice of intent to submit an adverse comment is received, we will withdraw this direct final rule and publish a timely notice of withdrawal in the Federal Register.

ADDRESSES: To make sure that your comments and related material are not entered more than once in the docket, please submit them by only one of the following means:

(1) By mail to the Docket Management Facility (USCG-2002-13213), U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web site for the Docket Management System at http://dms.dot.gov.

The Docket Management Facility maintains the public docket for this rulemaking. Comments and related material received from the public, as well as documents mentioned in this preamble as being available in the docket, will become part of this docket and will be available for inspection or copying at room PL-401 on the Plaza level of the Nassif Building, 400 Seventh Street SW., Washington DC, 9 a.m. and 5 p.m., Monday through Friday, except Federal holidays. You may also find this docket on the Internet at http://dms.dot.gov.

FOR FURTHER INFORMATION CONTACT: If you have questions on this rule, call Mr. Donald Kerlin, National Maritime Center, U.S. Coast Guard, telephone 202-493-1001. If you have questions on viewing or submitting material to the docket, call Dorothy Beard, Chief, Dockets, Department of Transportation, telephone 202-366-5149.

SUPPLEMENTARY INFORMATION:

Request for Comments

We encourage you to participate in this rulemaking by submitting comments and related material. If you do so, please include your name and address, identify the docket number for this rulemaking (USCG-2002-13213), indicate the specific section of this document to which each comment applies, and give the reason for each comment. You may submit your comments and material by mail, hand delivery, fax, or electronic means to the Docket Management Facility at the address under ADDRESSES; but please submit your comments by only one means. If you submit your comments by mail or hand delivery, submit them in an unbound format, no larger than 81/2 by 11 inches, suitable for copying and electronic filing. If you submit them by mail and would like to know that they reached the Facility, please enclose a stamped, self-addressed postcard or envelope.

Regulatory Information

We are publishing a direct final rule under 33 CFR 1.05-55 because we do not expect an adverse comment. If no adverse comment or notice of intent to submit an adverse comment is received by December 17, 2002, this rule will become effective as stated in the DATES section. In that case, approximately 30 days before the effective date, we will publish a document in the Federal Register stating that no adverse comment was received and confirming that this rule will become effective as scheduled. However, if we receive an adverse comment or notice of intent to submit an adverse comment, we will publish a document in the Federal Register announcing the withdrawal of all or part of this direct final rule. If an adverse comment applies only to part of this rule (e.g., to an amendment, a paragraph, or a section) and it is possible to remove that part without defeating the purpose of this rule, we may adopt, as final, those parts of this rule on which no adverse comment was received. We will withdraw the part of this rule that was the subject of an adverse comment. If we decide to proceed with a rulemaking following receipt of an adverse comment, we will publish a separate notice of proposed rulemaking (NPRM) and provide a new opportunity for comment.

A comment is considered “adverse” if the comment explains why this rule or a part of this rule would be inappropriate, including a challenge to its underlying premise or approach, or would be ineffective or unacceptable without a change.

Background and Purpose

Section 10.407 of Title 46, Code of Federal Regulations provides several routes by which an applicant can demonstrate sufficient “service or training” to qualify for licensing as a third mate of ocean or near coastal steam or motor vessels of any gross tons. The applicant can demonstrate actual sea service (paragraphs (a)(1) and (c)), completion of an apprentice mate training program (paragraph (a)(3)), or graduation from one of several maritime academies (paragraphs (a)(2) and (b)). Each of the maritime academies offers “sea service” training as part of its curriculum. Until recently, sea service training at the Great Lakes Maritime Academy (GLMA) was available exclusively on Great Lakes waters. In recognition of that limitation, 46 CFR 10.407(a)(2) and (b) provide that GLMA graduation qualifies an applicant for “near coastal vessel” licensing but not for “ocean or near coastal vessel” licensing.

Beginning with the Class of 2003, GLMA now offers its deck curriculum cadets an “ocean option program.” The Coast Guard considers the “ocean option” to provide the same level of sea service training offered by maritime academies that are not subject to the “near coastal vessel” restriction. Therefore, we will accept graduation from the ocean option in GLMA's deck curriculum as qualifying an applicant for “ocean or near coastal vessel” licensing. GLMA deck class graduates who have not completed the ocean option, and who have not satisfied one of the other “service or training” routes mentioned above, will continue to be eligible only for near coastal vessel licensing.

Discussion of Rule

Minimum service or training requirements for applicants for third mate licenses on “ocean or near coastal” steam or motor vessels of any gross tons are contained in 46 CFR 10.407. Paragraph (a)(2)(iv) of that rule excludes GLMA from a list of maritime academies whose graduates meet the training requirements for “ocean or near coastal” licensing, while paragraph (b) provides that GLMA deck curriculum graduates are eligible only for “near coastal” licensing. We are revising (a)(2)(iv) to include the GLMA ocean option program, and we are revising (b) so that the “near coastal”-only restriction is retained only for GLMA graduates who have no “ocean sea service.”

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, l979). We expect the economic impact of this rule to be so minimal that a full Regulatory Evaluation under paragraph 10e of the regulatory policies and procedures of DOT is unnecessary.

This rule will have no environmental consequences, impose no collection of information, and impose no other costs while addressing needs expressed by the regulated industry.

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

This rule has no small entity impact because it has no cost. Therefore, the Coast Guard certifies under 5 U.S.C. 605(b) that this rule will not have a significant economic impact on a substantial number of small entities. Comments submitted in response to this finding will be evaluated under the criteria in the “Regulatory Information” section of this preamble.

Collection of Information

This rule calls for no new collection of information under the Paperwork Reduction Act of 1995 (44 U.S.C. 3501-3520).

Federalism

A rule has implications for federalism under Executive Order 13132, Federalism, if the rule has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this rule might impact tribal governments, even if that impact may not constitute a “tribal implication” under the Order.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that, under figure 2-1, paragraph (34)(c) of Commandant Instruction M16475.lD, this rule is categorically excluded from further environmental documentation. The changes in this rule concern the training, qualifying and licensing of maritime personnel. A “Categorical Exclusion Determination” is available in the docket where indicated under ADDRESSES.

List of Subjects in 46 CFR Part 10

Penalties, Reporting and recordkeeping requirements, Schools, Seamen.

For the reasons discussed in the preamble, the Coast Guard amends 46 CFR part 10 as follows:

PART 10—LICENSING OF MARITIME PERSONNEL

1. The authority citation for part 10 continues to read as follows:

Authority: 14 U.S.C. 633; 31 U.S.C. 9701; 46 U.S.C. 2101, 2103, and 2110; 46 U.S.C. Chapter 71; 46 U.S.C. 7502, 7505, and 7701; 49 CFR 1.45 and 1.46. Section 10.107 is also issued under the authority of 44 U.S.C. 3507.

§ 10.407 [Amended]

2. In § 10.407, paragraph (a)(2)(iv), remove the word “except” and in its place add the words “including the ocean option program in”, and in paragraph (b), after the word “Academy” add the words “with no ocean sea service”.

Dated: October 7, 2002.
Paul J. Pluta,
Rear Admiral, Coast Guard, Assistant Commandant for Marine Safety, Security and Environmental Protection.

[FR Doc. 02-26463 Filed 10-17-02; 8:45 am]

BILLING CODE 4910-15-P